DEPARTMENT OF JUSTICE

Supplemental Notice of Lodging of Consent Decree Pursuant to the Comprehensive Environmental Response, Compensation and Liability Act

On June 5, 2008, the Department of Justice published notice of lodging of a proposed Consent Decree on May 29, 2008, with the United States District Court for the Northern District of Illinois in United States v. Waste Management of Illinois, Inc. et al., Civil No. 08-50094 (N.D. Ill.), under the Comprehensive Environmental Response, Compensation, and Liability Act (“CERCLA”), 42 U.S.C. 9601-9675. See 73 FR 32050-1 (June 5, 2008).

The Department of Justice hereby supplements its Notice to indicate that under Section 7003(d) of the Resource Conservation and Recovery Act (“RCRA''), 42 U.S.C. 6973(d), the public may request an opportunity for a public meeting in the affected area at which time they may offer comment. This opportunity to request a public meeting is extended for 10 days from the date of publication of this Supplemental Notice.

William D. Brighton,
Assistant Chief, Environmental Enforcement Section, Environment and Natural Resources Division.

[FR Doc. E8-16110 Filed 7-14-08; 8:45 am]

BILLING CODE 4410-15-P